DEPARTMENT OF AGRICULTURE

Office of the Secretary

Notice of the Research, Education, and Economics Task Force Meeting

AGENCY: Research, Education, and Economics, USDA.

ACTION: Notice of meeting.

SUMMARY: In accordance with the Federal Advisory Committee Act, 5 U.S.C. App., the United States Department of Agriculture announces a meeting of the Research, Education, and Economics Task Force.

DATES: The Research, Education, and Economics Task Force will meet on January 28, 2004. The public may file written comments before or up to two weeks after the meeting with the contact person.

ADDRESSES: On January 28, the meeting will take place at the Donald Danforth Plant Science Center, 975 N. Warson Road, St. Louis, MO 63132.

Written comments from the public may be sent to the Contact Person identified in this notice at: the Research, Education, and Economics Task Force; Office of the Under Secretary, Room 214-W, Jamie L. Whitten Building, United States Department of Agriculture, 1400 Independence Ave., SW., Washington, DC 20250.

FOR FURTHER INFORMATION CONTACT: Kathryn Boots, Executive Director, Research, Education, and Economics Task Force; telephone: (202) 690-0826; fax: (202) 690-2842; or e-mail: katie.boots@usda.gov.

SUPPLEMENTARY INFORMATION: On Wednesday, January 28, the Research, Education, and Economics Task Force will hold a general meeting at the Donald Danforth Plant Science Center. The Task Force will continue its evaluation of the merits of establishing one or more National Institutes focused on disciplines important to the progress of food and Agricultural science. In the morning there will be welcoming remarks made by the Chairman of the Task Force, Dr. William Danforth, Chancellor Emeritus, Vice Chairman, Board of Trustees, Washington University in St. Louis, and host, Roger Beachy. Remarks will also be made by the USDA Under Secretary for Research, Education, and Economics (REE), Dr. Joseph J. Jen. Welcoming remarks will be followed by a discussion about the first draft of the Task Force report. Following the discussion, Peter Raven, President of the Missouri Botanical Garden will speak about why plant research is important for the world. Martin Apple, President, Council of Scientific Society Presidents will follow Peter Raven to speak about the challenges facing agriculture. Following Martin Apple will be a continuation of the discussion of the draft report.

The Task Force Meeting will adjourn on Wednesday, January 28, around 4 p.m. This meeting is open to the public. Written comments for the public record will be welcomed before and up to two weeks following the Task Force meeting (by close of business Wednesday, February 11, 2004). All statements will become part of the official record of the Research, Education, and Economics Task Force and will be kept on file for public review in the Office of the Under Secretary for Research, Education, and Economics.

Done in Washington, DC this 1st day of January, 2004.
Joseph J. Jen,
Under Secretary, Research, Education, and Economics.

[FR Doc. 04-400 Filed 1-8-04; 8:45 am]

BILLING CODE 3401-03-M